DEPARTMENT OF ENERGY

Federal Energy Regulatory Commission

[Docket No. RP01-619-000]

Enbridge Pipelines (KPC); Notice of Proposed Changes in FERC Gas Tariff

October 2, 2001.

Take notice that on September 28, 2001, Enbridge Pipelines (KPC), formerly Kansas Pipeline Company (KPC) tendered for filing as part of its FERC Gas Tariff, First Revised Volume No. 1, the following tariff sheets, with an effective date of November 1, 2001:

First Revised Sheet No. 15

First Revised Sheet No. 21

First Revised Sheet No. 26

First Revised Sheet No. 28

First Revised Sheet No. 30

First Revised Sheet No. 31A

First Revised Sheet No. 31C

KPC states that the purpose of the filing is to reflect a decrease of 0.3251% in its Fuel Reimbursement Percentage for volumes delivered between November and March pursuant to Section 23 of the General Terms and Conditions of its FERC Gas Tariff. After the change, KPC states that, other than the 1.25% fuel retention collected pursuant to the Transok lease, its system Fuel Reimbursement Percentage will be 0.00% for each of its three (3) Zones.

KPC further states that because of an administrative oversight, it did not file to change its Fuel Reimbursement Surcharge effective on November 1, 2000, however, because the rates would have increased, there was no adverse effect on its shippers. KPC requested any waiver that may be required, to permit the proposed tariff sheets to be made effective on November 1, 2001.

KPC states that copies of its transmittal letter and appendices have been mailed to all affected customers and interested state commissions.

Any person desiring to be heard or to protest said filing should file a motion to intervene or a protest with the Federal Energy Regulatory Commission, 888 First Street, NE., Washington, DC. 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-25217 Filed 10-5-01; 8:45 am]

BILLING CODE 6717-01-P